DEPARTMENT OF LABOR

Employment and Training Administration

[TA-W-71,574]

Win On, Inc., Brooklyn, NY; Notice of Termination of Investigation

Pursuant to Section 223 of the Trade Act of 1974, as amended, an investigation was initiated on June 30, 2009 in response to a worker petition filed by on behalf of workers of Win On, Inc., Brooklyn, New York.

Petitions filed by a group of adversely affected workers must be filed by at least three workers within one year of worker separations. The investigation revealed that two of the petitioners were separated more than one year prior to the date of petition. Consequently, the petition has been deemed invalid, and the investigation has been terminated.

Signed at Washington, DC, this 30th day of July 2009.
Richard Church,
Certifying Officer, Division of Trade Adjustment Assistance.

[FR Doc. E9-20467 Filed 8-25-09; 8:45 am]

BILLING CODE 4510-FN-P